DEPARTMENT OF STATE

[Public Notice: 12901]

Advisory Committee on Private International Law

ACTION: Intent to re-establish a federal advisory committee; notice.

The Secretary of State announces an intent to re-establish the Advisory Committee on Private International Law, in accordance with the Federal Advisory Committee Act. The purpose of the Committee is to provide advice to the Department on significant issues of private international law arising or likely to arise in the work of international organizations of which the United States is a Member State, or in international bodies in whose work the United States has an interest, or in the foreign relations of the United States.

The Department of State affirms that the advisory committee is necessary and in the public interest.

Other information: It is anticipated that the Committee will meet at least once a year and that its subcommittees will meet as necessary. Meetings of the Committee and any subcommittees will, unless notice is otherwise provided, be open to the public and to all interested agencies, or organizations.

FOR FURTHER INFORMATION CONTACT: Anna Fox, (202) 647-0685, foxar@state.gov.

(Authority: 5 U.S.C. 1001 et seq.; 22 U.S.C. 2651a.)

Anna-Kristina R. Fox,
Designated Federal Officer, Advisory Committee on Private International Law, U.S. Department of State.

[FR Doc. 2026-00429 Filed 1-12-26; 8:45 am]

BILLING CODE 4710-08-P